DEPARTMENT OF TRANSPORTATION

Federal Aviation Administration

Notice of Intent To Rule on Request To Release Airport Property at the McKellar-Sipes Regional Airport, Jackson, TN

AGENCY: Federal Aviation Administration (FAA), DOT.

ACTION: Request for public comment.

SUMMARY: The Federal Aviation Administration is requesting public comment on the release of land at the McKellar-Sipes Regional Airport, in the city of Jackson, TN. This property, approximately 4.0 acres, will change to a non-aeronautical use. This action is taken under the provisions of 49 U.S.C. Section 47107(h)(2) requiring public notice before a waiver of property designated to be used for an aeronautical purpose is granted.

DATES: Comments must be received on or before November 9, 2012.

ADDRESSES: Documents are available for review at the McKellar-Sipes Regional Airport, 308 Grady Montgomery Drive, Jackson, TN. 38301 and the FAA Airports District Office, 2862 Business Park Drive, Building G, Memphis, TN 38118. Written comments on the Sponsor's request must be delivered or mailed to: Mr. Phillip J. Braden, Manager, Memphis Airports District Office, 2862 Business Park Drive, Building G, Memphis, TN 38118.

In addition, a copy of any comments submitted to the FAA must be mailed or delivered to Mr. Steve Smith, Executive Director, Jackson—Madison County Airport Authority, 308 Grady Montgomery Drive, Jackson, TN. 38301.

FOR FURTHER INFORMATION CONTACT: Mr. Michael Thompson, Program Manager, Federal Aviation Administration, Memphis Airports District Office, 2862 Business Park Drive, Building G, Memphis, TN 38118. The application may be reviewed in person at this same location, by appointment.

SUPPLEMENTARY INFORMATION: The FAA proposes to rule and invites public comment on the request to release property at the McKellar-Sipes Regional Airport, Jackson, TN Under the provisions of 49 U.S.C. 47107(h)(2).

On October 1, 2012, the FAA determined that the request to release property at McKellar-Sipes Regional Airport meets the procedural requirements of the Federal Aviation Administration. The FAA may approve the request, in whole or in part, no later than November 9, 2012.

The following is a brief overview of the request:

The McKellar-Sipes Regional Airport is proposing the release of approximately 4.0 acres of airport property so the property can be used to accommodate the construction of a new Madison County Fire Department vehicle maintenance facility. This property is located on Technology Center Drive adjacent to the Tennessee Technology Center outside of the airport perimeter fence.

Any person may inspect, by appointment, the request in person at the FAA office listed above under FOR FURTHER INFORMATION CONTACT.

In addition, any person may, upon appointment and request, inspect the request, notice and other documents germane to the request in person at the Tennessee Department of Transportation, Division of Aeronautics.

Issued in Memphis, TN on October 1, 2012.
Phillip J. Braden,
Manager, Memphis Airports District Office, Southern Region.

[FR Doc. 2012-24679 Filed 10-9-12; 8:45 am]

BILLING CODE 4910-13-P